DEPARTMENT OF DEFENSE

Defense Acquisition Regulations System

[Docket DARS-2017-0009; OMB Control Number 0704-0245]

Information Collection Requirement; Defense Federal Acquisition Regulation Supplement; Transportation

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement under Control Number 0704-0245 for use through November 30, 2017. DoD proposes that OMB extend its approval for the requirements now included under Control Number 0704-0245 for use for three additional years.

DATES: DoD will consider all comments received by October 23, 2017.

ADDRESSES: You may submit comments, identified by OMB Control Number 0704-0245, using any of the following methods:

• Federal eRulemaking Portal: http://www.regulations.gov. Follow the instructions for submitting comments.

• Email: osd.dfars@mail.mil. Include OMB Control Number 0704-0245 in the subject line of the message.

• Fax: 571-372-6094.

• Mail: Defense Acquisition Regulations System, Attn: Mr. Tom Ruckdaschel, OUSD(AT&L)DPAP(DARS), 3060 Defense Pentagon, Room 3B941, Washington, DC 20301-3060.

Comments received generally will be posted without change to http://www.regulations.gov, including any personal information provided.

Instructions: Search for “Docket Number: DARS-2017-0009.” Select “Comment Now” and follow the instructions provided to submit a comment. All submissions received must include the agency name and docket number for this notice. Comments received generally will be posted without change to http://www.regulations.gov, including any personal information provided. To confirm receipt of your comment(s), please check www.regulations.gov, approximately two to three days after submission to verify posting (except allow 30 days for posting of comments submitted by mail).

FOR FURTHER INFORMATION CONTACT: Mr. Tom Ruckdaschel, 571-372-6088.

SUPPLEMENTARY INFORMATION:

Title and OMB Number: Defense Federal Acquisition Regulation Supplement (DFARS) Part 247, Transportation, and related clauses at DFARS 252.247; OMB Control Number 0704-0245.

Needs and Uses: DoD contracting officers use this information to verify that prospective contractors have adequate insurance prior to award of stevedoring contracts; to provide appropriate price adjustments to stevedoring contracts; to assist the Maritime Administration in monitoring compliance with requirements for use of U.S.-flag vessels in accordance with the Cargo Preference Act of 1904 (10 U.S.C. 2631); and to provide appropriate and timely shipping documentation and instructions to contractors.

Type of Collection: Revision of a currently approved collection.

Obligation To Respond: Required to obtain or retain benefits.

Affected Public: Businesses or other for-profit and not-for-profit institutions.

Frequency: On occasion.

Number of Respondents: 33,372.

Responses per Respondent: 12.57, approximately.

Annual Responses: 419,537.

Average Hours per Response: .4, approximately.

Annual Burden Hours: 168,496.

Summary of Information Collection

The clause at DFARS 252.247-7000, Hardship Conditions, is prescribed at DFARS 247.270-4(a) for use in all solicitations and contracts for the acquisition of stevedoring services. Paragraph (a) of the clause requires the contractor to notify the contracting officer of unusual conditions associated with loading or unloading a particular cargo, for potential adjustment of contract labor rates; and to submit any associated request for price adjustment to the contracting officer within 10 working days of the vessel sailing time.

The clause at DFARS 252.247-7001, Price Adjustment, is prescribed at DFARS 247.270-4(b) for use in solicitations and contracts when using sealed bidding to acquire stevedoring services. Paragraphs (b) and (c) of the clause require the contractor to notify the contracting officer of certain changes in the wage rates or benefits that apply to its direct labor employees. Paragraph (g) of the clause requires the contractor to include with its final invoice a statement that the contractor has experienced no decreases in rates of pay for labor or has notified the contracting officer of all such decreases.

The clause at DFARS 252.247-7002, Revision of Prices, is prescribed at DFARS 247.270-4(c) for use in solicitations and contracts when using negotiation to acquire stevedoring services. Paragraph (c) of the clause provides that, at any time, either the contracting officer or the contractor may deliver to the other a written demand that the parties negotiate to revise the prices under the contract. Paragraph (d) of the clause requires that, if either party makes such a demand, the contractor must submit relevant data upon which to base negotiations.

The clause at DFARS 252.247-7007, Liability and Insurance, is prescribed at DFARS 247.270-4(g) for use in all solicitations and contracts for the acquisition of stevedoring services. Paragraph (f) of the clause requires the contractor to furnish the contracting officer with satisfactory evidence of insurance.

The provision at DFARS 252.247-7022, Representation of Extent of Transportation by Sea, is prescribed at DFARS 247.574(a) for use in all solicitations except those for direct purchase of ocean transportation services or those with an anticipated value at or below the simplified acquisition threshold. Paragraph (b) of the provision requires the offeror to represent whether or not it anticipates that supplies will be transported by sea in the performance of any contract or subcontract resulting from the solicitation.

The clause at DFARS 252.247-7023, Transportation of Supplies by Sea, is prescribed at DFARS 247.574(b) for use in all solicitations and contracts except those for direct purchase of ocean transportation services. Paragraph (d) of the clause requires the contractor to submit any requests for use of other than U.S.-flag vessels in writing to the contracting officer. Paragraph (e) of the clause requires the contractor to submit one copy of the rated on board vessel operating carrier's ocean bill of landing. Paragraph (f) of the clause, if the contract exceeds the simplified acquisition threshold, requires the contractor to represent, with its final invoice, that: (1) No ocean transportation was used in the performance of the contract; (2) only U.S.-flag vessels were used for all ocean shipments under the contract; (3) the contractor had the written consent of the contracting officer for all non-U.S.-flag ocean transportation; or (4) shipments were made on non-U.S.-flag vessels without the written consent of the contracting officer. Contractors must flow down these requirements to noncommercial subcontracts and certain types of commercial subcontracts. Subcontracts at or below the simplified acquisition threshold are excluded from the requirements of paragraph (f) stated above.

The clause at DFARS 252.247-7024, Notification of Transportation of Supplies by Sea, is prescribed at DFARS 247.574(c) for use in all contracts, for which the offeror represented, by completion of the provision at DFARS 252.247-7022, that it did not anticipate transporting any supplies by sea in performance of the contract. Paragraph (a) of the clause requires the contractor to notify the contracting officer if the contractor learns, after award of the contract, that supplies will be transported by sea.

The clause at DFARS 252.247-7026, Evaluation Preference for Use of Domestic Shipyards—Applicable to Acquisition of Carriage by Vessel for DoD Cargo in the Coastwise or Noncontiguous Trade, is prescribed at DFARS 247.574(e) in solicitations that require a covered vessel for carriage of cargo for DoD. Paragraph (c) of the clause requires the offeror to provide information with its offer, addressing all covered vessels for which overhaul, repair, and maintenance work has been performed during the period covering the current calendar year, up to the date of proposal submission, and the preceding four calendar years.

The clause at DFARS 252.247.7028, Application for U.S. Government Shipping Documentation/Instructions, is prescribed at DFARS 247.207(2) for inclusion in all solicitations and contracts, including solicitations and contracts using FAR part 12 procedures for the acquisition of commercial items, when shipping under Bills of Lading and Domestic Route Order under FOB origin contract, Export Traffic Release regardless of FOB terms, or foreign military sales shipments. Paragraph (a) of the clause requires contractors to complete DD Form 1659, Application for U.S. Government Shipping Documentation/Instructions to request shipping instructions, unless an automated system is available (paragraph (b) of the clause).

Jennifer L. Hawes,
Editor, Defense Acquisition Regulations System.

[FR Doc. 2017-17948 Filed 8-23-17; 8:45 am]

BILLING CODE 5001-06-P